FEDERAL COMMUNICATIONS COMMISSION

47 CFR Part 63

[GN Docket No. 13-5, RM-11358; WC Docket No. 13-3; FCC 16-90]

Technology Transitions, USTelecom Petition for Declaratory Ruling That Incumbent Local Exchange Carriers Are Non-Dominant in the Provision of Switched Access Services, Policies and Rules Governing Retirement of Copper Loops by Incumbent Local Exchange Carriers and Special Access for Price Cap Local Exchange Carriers

AGENCY: Federal Communications Commission.

ACTION: Final rule; announcement of effective date.

SUMMARY: In this document, the Commission announces that the Office of Management and Budget (OMB) has approved, for a period of three years, the information collection associated with the Commission's discontinuance rules. This document is consistent with the Technology Transitions Declaratory Ruling, Second Report and Order, and Order on Reconsideration, FCC 16-90, which stated that the Commission would publish a document in the Federal Register announcing the effective date of those rules.

DATES: The amendments to 47 CFR 63.71(a) introductory text, (b), (g), and (i) published at 81 FR 62632, September 12, 2016, are effective on January 18, 2018.

FOR FURTHER INFORMATION CONTACT: Michele Levy Berlove, Attorney Advisor, Wireline Competition Bureau, at (202) 418-1477, or by email at Michele.Berlove@fcc.gov.

SUPPLEMENTARY INFORMATION: This document announces that, on January 5, 2018, OMB approved, for a period of three years, the information collection requirements relating to certain of the discontinuance rules contained in the Commission's Technology Transitions Declaratory Ruling, Second Report and Order, and Order on Reconsideration, FCC 16-90, published at 81 FR 62632, September 12, 2016, as specified above.

The OMB Control Number is 3060-0149. The Commission publishes this document as an announcement of the effective date of the rules. If you have any comments on the burden estimates listed below, or how the Commission can improve the collections and reduce any burdens caused thereby, please contact Nicole Ongele, Federal Communications Commission, Room A-C620, 445 12th Street SW, Washington, DC 20554. Please include the OMB Control Number, 3060-0149, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on January 5, 2018, for the information collection requirements contained in the modifications to the Commission's rules in 47 CFR part 63. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0149.

The foregoing notice is required by the Paperwork Reduction Act of 1995, Public Law 104-13, October 1, 1995, and 44 U.S.C. 3507.

The total annual reporting burdens and costs for the respondents are as follows:

OMB Control Number: 3060-0149.

OMB Approval Date: January 5, 2018.

OMB Expiration Date: January 31, 2021.

Title: Part 63, Application and Supplemental Information Requirements; Technology Transitions et al., GN Docket No. 13-5 et al.

Form Number: N/A.

Respondents: Business or other for-profit entities.

Number of Respondents and Responses: 60 respondents; 60 responses.

Estimated Time per Response: 6 hours.

Frequency of Response: One-time reporting requirement and third-party disclosure requirements.

Obligation to Respond: Required to obtain or retain benefits. Statutory authority for this collection of information is contained in 47 U.S.C. 214 and 402 of the Communications Act of 1934, as amended.

Total Annual Burden: 360 hours.

Total Annual Cost: No cost(s).

Nature and Extent of Confidentiality: The Commission is not requesting that the respondents submit confidential information to the FCC. Respondents may, however, request confidential treatment for information they believe to be confidential under 47 CFR 0.459 of the Commission's rules.

Privacy Act: No impact(s).

Needs and Uses: The Commission is seeking Office of Management and Budget (OMB) approval for a revision to a currently approved collection. Section 214 of the Communications Act of 1934, as amended, requires that a carrier first obtain FCC authorization either to (1) construct, operate, or engage in transmission over a line of communications, or (2) discontinue, reduce or impair service over a line of communications. Part 63 of title 47 of the Code of Federal Regulations (CFR) implements Section 214. Part 63 also implements provisions of the Cable Communications Policy Act of 1984 pertaining to video which was approved under this OMB Control Number 3060-0149. In 2009, the Commission modified Part 63 to extend to providers of interconnected Voice of internet Protocol (VoIP) service the discontinuance obligations that apply to domestic non-dominant telecommunications carriers under Section 214 of the Communications Act of 1934, as amended. In 2014, the Commission adopted improved administrative filing procedures for domestic transfers of control, domestic discontinuances and notices of network changes, and among other adjustments, modified Part 63 to require electronic filing for applications for authorization to discontinue, reduce, or impair service under section 214(a) of the Act. In July 2016, the Commission revised certain section 214(a) discontinuance procedures. To reduce burdens on carriers, the Commission revised its rules to: (1) Allow carriers to provide notice via email or other alternative methods to offer additional options to customers, and (2) provide for streamlined treatment of applications to discontinue services for which the carrier has had no existing customers or reasonable requests for service during the previous 180 days. It also addressed a gap in the Commission's rules by making a competitive LEC's application for discontinuance deemed granted on the effective date of any copper retirement that made the discontinuance unavoidable. The Commission further concluded that applicants must provide notice of discontinuance applications to federally-recognized Tribal Nations. The Commission estimates that there will be only minimal impact on the annual burden hours associated with discontinuance applications as a result of these revisions. Specifically, the Commission estimates that carriers will need no more than one additional hour per application for purposes of determining which, if any, Tribal Nations are located in the service areas to be affected by the planned discontinuance and providing such notice. The estimated number of respondents, responses, and burden hours associated with this collection differ from those set forth in the 60-day notice published on October 28, 2016 (81 FR 75054), which covered additional section 214(a) discontinuance rules adopted in 2016 that will now be addressed separately. As a result, the burden hours herein are substantially reduced from those contained in the 60-day notice.

Federal Communications Commission.
Marlene H. Dortch,
Secretary, Office of the Secretary.

[FR Doc. 2018-00760 Filed 1-17-18; 8:45 am]

BILLING CODE 6712-01-P